DEPARTMENT OF TRANSPORTATION

Research and Innovative Technology Administration, Bureau of Transportation Statistics

Advisory Council on Transportation Statistics; Request for Nominations

AGENCY: Research and Innovative Technology Administration (RITA), Bureau of Transportation Statistics (BTS), DOT.

ACTION: Request for Nominations to the Advisory Council on Transportation Statistics (ACTS).

SUMMARY: The BTS solicits nominations for interested persons to serve on the ACTS. The ACTS is composed of BTS stakeholders who advise the Director on the quality, reliability, consistency, objectivity, and relevance of transportation statistics and analyses collected, supported, or disseminated by the BTS and DOT.

DATES: Nominations for the ACTS must be received on or before January 27, 2012.

ADDRESSES: Deborah D. Johnson, ACTS Liaison at the Research and Innovative Technology Administration, Bureau of Transportation Statistics, 1200 New Jersey Avenue SE., Room E34-316, Washington, DC 20590 at (202) 366-8578 or email at deborah.johnson@dot.gov. Send nominations with complete contact information and biography or the completed application in written form (for self-nominations) to the above street address. This notice and the DOT F 1120.1 application form are available on the Internet at http://www.bts.gov/programs/advisory_council_on_transportation_statistics/.

SUPPLEMENTARY INFORMATION:

I. Background

The Intermodal Surface Transportation Efficiency Act (ISTEA) of 1991 (Pub. L. 102-240), directed the Director of the Bureau of Transportation Statistics (BTS) to establish an advisory Council on Transportation Statistics. In 2005, the Safe, Accountable, Flexible, Efficient Transportation Equity Act: A Legacy for Users (SAFETEA-LU) codified the requirement for the ACTS in 49 U.S.C. Section 111 (See Section 5601 of SAFETEA-LU). The functions of the ACTS are to: (1) Advise the Director on the quality, reliability, consistency, objectivity, and relevance of transportation statistics and analyses collected, supported, or disseminated by BTS and DOT; (2) provide input to and review the congressional report required by 49 U.S.C. Section 111(d)(4); and (3) advise the Director of BTS on methods to encourage cooperation and interoperability of transportation data collected by BTS, the operating administrations of DOT, States, local governments, metropolitan planning organizations, and private sector entities http://www.bts.gov/programs/advisory_council_on_transportation_statistics/charter.html.

Committee members must not be officers or employees of the Federal Government and serve without pay on staggered 3-year terms. The Director may allow a member, when attending meetings of the Committee or a subcommittee, reimbursement of expenses authorized under Section 5703 of Title 5, United States Code and the Federal Travel Regulation, 41 CFR part 301, relating to per diem, travel, and transportation.

The President's Memorandum of June 18, 2010, concerning lobbyists on Agency boards and commissions (75 FR 35995, 6/23/10) directed the heads of Executive departments and agencies not to make any new appointments or reappointments of federally registered lobbyists to advisory committees and other boards and commissions. Pursuant to the President's directive, BTS will not consider for appointment to the ACTS any individual who is subject to the registration and reporting requirements of the Lobbying Disclosure Act (2 U.S.C. 1605).

The Designated Federal Officer anticipates calling Committee meetings approximately twice each year. Meetings are open to the general public, except as provided under the Federal Advisory Committee Act (FACA) (5 U.S.C. App.). Notice of each meeting is published in the Federal Register at least 15 calendar days prior to the date of the meeting.

II. Request for Nominations

The BTS seeks nominations for membership to the ACTS from among its stakeholder groups. The ACTS is composed of not fewer than nine and not more than 11 members appointed by the BTS Director, who are not officers or employees of the United States. Each member shall have expertise in transportation data collection or analysis or application; except that one member shall have expertise in economics, one member shall have expertise in statistics, and one member shall have experience in transportation safety. At least one member shall be a senior official of a State department of transportation. Members shall include representation of a cross-section of transportation community stakeholders.

The Agency is required under FACA to appoint members of diverse views and interests to ensure the committee is balanced with appropriate consideration of background. All Committee members must be able to attend at least one meeting each year in person or by teleconference. Interested persons should have a commitment to improving transportation statistics and have knowledge of transportation issues, experience on panels that deal with transportation statistics and data, and a record of collaboration and professional experience in transportation statistics and data issues.

Nominations should be submitted to Deborah Johnson at the address given in the ADDRESSES section at the beginning of this Notice. Applicants must submit Form F 1120.1 to apply for membership. The form is available at http://www.bts.gov/programs/advisory_council_on_transportation_statistics/. This Internet site also contains additional information on the ACTS, including reports, meeting minutes, and membership information.

Nominations must be received on or before January 27, 2012.

Issued in Washington, DC, on the 5th day of December 2011.
Pat Hu,
Director, Bureau of Transportation Statistics.

[FR Doc. 2012-430 Filed 1-13-12; 8:45 am]

BILLING CODE 4910-HY-P